CORPORATION FOR NATIONAL AND COMMUNITY SERVICE

Guidelines for Ensuring and Maximizing the Quality, Objectivity, Utility, and Integrity of Disseminated Information

AGENCY: Corporation for National and Community Service.

ACTION: Notice of proposed guidelines and request for comments.

SUMMARY: The Corporation for National and Community Service (hereinafter the “Corporation”) is seeking comments on its draft Information Quality Guidelines. These Information Quality Guidelines describe the Corporation's pre-dissemination information quality control and an administrative mechanism for requests for correction of information publicly disseminated by the Corporation. The proposed Information Quality Guidelines are posted on the Corporation's Web site: http://www.ofheo.gov.

DATES: Written comments regarding the Corporation's Information Quality Guidelines are due by August 19, 2002.

ADDRESSES: Send written comments to David Spevacek, Chief Information Officer, Corporation for National and Community Service, 1201 New York Ave., NW, Eighth Floor, Washington, DC 20525. Alternatively, comments may be sent by electronic mail to infoquality@cns.gov.

FOR FURTHER INFORMATION CONTACT: David Spevacek, Chief Information Officer, Corporation for National and Community Service, 1201 New York Ave., NW, Eighth Floor, Washington, DC 20525, telephone (202) 606-5000, ext. 339 or dspevacek@cns.gov. T.D.D. (202) 565-2799.

Dated: June 13, 2002.
David Spevacek,
Chief Information Officer.

[FR Doc. 02-15355 Filed 6-17-02; 8:45 am]

BILLING CODE 6050-$$-P